DEPARTMENT OF THE INTERIOR

Bureau of Land Management

[15X LLUTG01100 L13110000.EJ0000 24 1A]

Notice of Intent To Prepare an Environmental Impact Statement for the Crescent Point Energy Utah Federal-Tribal Well Development Project, Duchesne and Uintah Counties, Utah

AGENCY: Bureau of Land Management, Interior.

ACTION: Notice of Intent.

SUMMARY: In compliance with the National Environmental Policy Act of 1969, as amended (NEPA), and the Federal Land Policy and Management Act of 1976, as amended, the Bureau of Land Management (BLM), Vernal Field Office, Vernal, Utah, intends to prepare an Environmental Impact Statement (EIS) for the Utah Federal-Tribal Well Development proposal submitted by Crescent Point Energy. By this notice the BLM is also announcing the beginning of the scoping process and is soliciting public comments on the issues to be analyzed in the EIS.

DATES: This notice initiates a public scoping process for the EIS. Comments on issues may be submitted in writing for 30 days following the publication of this notice. The date(s) and location(s) of any public scoping meetings will be announced at least 15 days in advance through local news media, a project newsletter, and the BLM Web site at: http://www.blm.gov/ut/st/en/info/newsroom.2.html. In order to be included in the draft EIS, all comments must be received prior to the close of the 30-day scoping period or 15 days after the last public meeting, whichever is later. Additional opportunities for public participation will be provided upon publication of the Draft EIS.

ADDRESSES: Comments on issues related to the Crescent Point Energy Utah Federal-Tribal Well Development Project may be submitted by any of the following methods:

• Email: UT_Vernal_Comments@blm.gov.

• Fax: (435) 781-4410.

• Mail: 170 South 500 East, Vernal, Utah 84078.

• BLM NEPA Register: https://eplanning.blm.gov/epl-front-office/eplanning/nepa/nepa_register.do (go to the “text” tab, enter the following search criteria “Utah,” “UT—Vernal FO,” and “EIS”).

Documents pertinent to this proposal may be examined at the Vernal Field Office.

FOR FURTHER INFORMATION CONTACT: Stephanie Howard, BLM Project Manager; telephone at 435-781-4469; email showard@blm.gov. Contact Stephanie Howard to have your name added to our mailing list. Persons who use a telecommunications device for the deaf (TDD) may call the Federal Information Relay Service (FIRS) at 1-800-877-8339 to leave a message or question for the above individual. The FIRS is available 24 hours a day, 7 days a week. Replies are provided during normal business hours.

SUPPLEMENTARY INFORMATION: The applicant, Crescent Point Energy U.S. Corp, has filed a plan of development for their Federal, State, private, and tribal trust leases. Crescent Point proposes to drill up to 3,925 new oil and gas wells and build 863 miles of roads; 693 miles of pipelines co-located with the proposed roads; 170 miles of cross-country pipelines; 400 miles of trunk pipelines; 5 salt water disposal wells; 5 produced water treatment facilities; 20 central tank batteries; 4 gas processing plants; 8 oil storage areas; and, 4 equipment storage areas. These activities would occur on Federal-, tribal trust-, allottee-, State-, and privately-owned or administered lands. The project area is located within Duchesne and Uintah counties. It encompasses lands from 1 mile east of Myton, Utah, to 1 mile west of Highway 45. It is directly south of Roosevelt and Ballard cities, Utah, and north of the Ouray Wildlife Refuge. It encompasses:

Salt Lake Meridian, Utah

T. 5 S., R. 19 E.,

Tps. 6 and 7 S., Rs. 19 thru 22 E.,

T. 8 S., R. 20 E.

Uintah Special Meridian, Utah

T. 3 S., R. 1 W.,

Tps. 3 S., Rs. 1 and 2 E.,

Tps. 4 S., Rs. 2 and 3 E.

The purpose of the public scoping process is to determine relevant issues that will influence the scope of the environmental analysis, including alternatives and mitigation, and to guide the process for developing the EIS. At present, the BLM has identified the following resources as potentially being impacted by the project: Air quality and air-related values; surface water and groundwater resources including floodplains, wetlands, the Dry Gulch Creek, Pelican Lake, and the Green, Uinta, and Duchesne Rivers; cultural and paleontological resources; soils; special status plant and animal species; greater sage-grouse habitat; livestock grazing; recreation; the Pelican Lake Special Recreation Management Area; residences and residential areas; local and regional social programs and economics; and environmental justice considerations.

Alternatives identified at this time include the proposed action and the no action alternatives. Additional alternatives and mitigation will be developed as a result of issues and concerns identified through the scoping process. The BLM will identify and analyze impacts to resources that could be expected to occur from the approval of this project, and the BLM will consider potential mitigation measures to address those impacts, where available. Mitigation may include avoidance, minimization, rectification, reduction or elimination over time, and compensatory mitigation; and may be considered at multiple scales, including the landscape scale.

The BLM-Vernal Field Office Record of Decision and Approved Resource Management Plan (RMP) (October 2008), as amended (September 2015), directs management of the BLM-administered public lands within the project area. The RMP provides for development of valid existing oil and gas leases. An amendment of the RMP is not required in connection with this project.

The BLM is the designated lead Federal agency for preparation of the EIS as defined in 40 CFR 1501.5. Agencies with legal jurisdiction or special expertise have been invited to participate as cooperating agencies in preparation of the EIS. These include: Ballard City; Myton City; Roosevelt City; Duchesne County; Uintah County; Utah School and Institutional Trust Lands Administration; Utah Public Lands Policy and Coordination Office; Ute Indian Tribe; United States (U.S.) Environmental Protection Agency Region 8; U.S. Fish and Wildlife Service Utah Field Office; U.S. Army Corps of Engineers Utah/Nevada Regulatory Office; Bureau of Reclamation Provo Area Office; Bureau of Indian Affairs Uintah and Ouray Agency; Utah Reclamation Mitigation and Conservation Commission; and, the Ouray Wildlife Refuge.

The BLM will use and coordinate the NEPA commenting process to satisfy the public involvement process for Section 106 of the National Historic Preservation Act (16 U.S.C. 470f) as provided for in 36 CFR 800.2(d)(3). The BLM will consult with Indian tribes on a government-to-government basis in accordance with Executive Order 13175 and other policies. Tribal concerns, including impacts on Indian trust assets and potential impacts to cultural resources, will be given due consideration.

Comments regarding issues, alternatives, scope, mitigation, or other concerns or ideas may be submitted in writing to the BLM at any public scoping meeting, or you may submit them to the BLM using one of the methods listed in the ADDRESSES section above. To be most helpful, comments should be submitted by the end of the public scoping period (within 30 days from the BLM's publication in the Federal Register). Before including your address, phone number, email address, or other personal identifying information in your comment, you should be aware that your entire comment—including your personal identifying information—may be made publicly available at any time. While you can ask us in your comment to withhold your personal identifying information from public review, we cannot guarantee that we will be able to do so.

Authority: 40 CFR 1501.7

Jenna Whitlock,
Acting State Director.

[FR Doc. 2016-08024 Filed 4-7-16; 8:45 am]

BILLING CODE 4310-DQ-P